DEPARTMENT OF HEALTH AND HUMAN SERVICES

Administration for Children and Families

[OMB #: 0970-0338]

Submission for Office of Management and Budget Review; Caseload Reduction Documentation Process

AGENCY: Office of Family Assistance, Administration for Children and Families, U.S. Department of Health and Human Services.

ACTION: Request for Public Comments.

SUMMARY: The Administration for Children and Families (ACF) is requesting a three-year extension of the form ACF-202: Caseload Reduction Report (Office of Management and Budget (OMB) #0970-0338, expiration October 31, 2026). There are substantive changes requested to the instructions and form.

DATES: The public may view and comment on this information collection request at: https://www.reginfo.gov/public/do/PRAViewICR?ref_nbr=202511-0970-001. You can also obtain copies of the proposed collection of information by emailing infocollection@acf.hhs.gov. Identify all emailed requests by the title of the information collection.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Section 407(b)(3) of the Social Security Act requires ACF to reduce a state's required work participation rate for a fiscal year (FY) by the state's caseload reduction credit for that FY. 42 U.S.C. 607(b)(3). The caseload reduction credit gives a state credit for reducing its caseload between a base year and a comparison year. 42 U.S.C. 607(b)(3)(A). States submit data for the calculation of their caseload reduction credit by completing form ACF-202. Section 301 of the Fiscal Responsibility Act of 2023 (FRA) recalibrates the caseload reduction credit by amending Section 407(b)(3) of the Social Security Act (42 U.S.C. 607(b)(3)) and changing the base-year caseload from FY 2005 to FY 2015. The FRA, Public Law 118-15, § 301 (2023), 137 Stat. 34. ACF proposes to revise the Caseload Reduction Documentation Process as required by the FRA by striking “2005” and inserting “2015.” Fiscal Responsibility Act of 2023, Public Law 118-15, § 301 (2023), 137 Stat. 34. There are additional minor changes to the instructions and form to update the reporting due date for FY 2026, update submission and general instructions, and change `State' to lowercase, where applicable.

Respondents: State TANF agencies.

Annual Burden Estimates: The following table includes all information collections currently approved under this OMB #. This revision request only proposes changes to the content of the second row: Caseload Reduction Credit Documentation Process, Form ACF-202 §§ 261.41 & 261.44. Burden estimates have been revised to reflect that states spend less time on revisions than initial submissions, and that not all states submit each form each year.

Instrument | Total number of respondents | Total number of responses per respondent (over 3 years) | Average burden hours per response | Total burden (over 3 years) | Annual burden hours
Work Verification Plan §§ 261.60-261.63 | 10 | 1 | 30 | 900 | 300
Caseload Reduction Credit Documentation Process, ACF-202 §§ 261.41 & 261.44 | 54 | 1 | 40 | 6,480 | 2,160
Reasonable Cause/Corrective Compliance Documentation Process §§ 262.4, 262.6, & 262.7; § 261.51 | 9 | 1 | 240 | 6,480 | 2,160
TANF Data Report Part 265 | 54 | 4 | 2,100 | 1,360,800 | 453,600
SSP-MOE Data Report—Part 265 | 29 | 4 | 714 | 248,472 | 82,824
TANF Sampling and Statistical Methods Manual § 265.5 | 30 | 4 | 48 | 17,280 | 5,760
Estimated Total Annual Burden Hours | 546,804

Authority: 42 U.S.C. 607(b)(3); Fiscal Responsibility Act of 2023, Public Law 118-5, 301, 137 Stat. 34.

Mary C. Jones,
ACF/OPRE Certifying Officer.

[FR Doc. 2025-20397 Filed 11-19-25; 8:45 am]

BILLING CODE 4184-36-P